FEDERAL COMMUNICATIONS COMMISSION

47 CFR Part 73

[DA 02-3364; MM Docket No. 00-53; RM-9823, RM-9950]

Radio Broadcasting Services; Barnesville and Detroit Lakes, MN, and Enderlin, ND

AGENCY: Federal Communications Commission.

ACTION: Final rule.

SUMMARY: In response to a Petition for Reconsideration filed by Triad Broadcasting Company, LLC and a Petition for Reconsideration filed by Enderlin Broadcasting Company, this document allots Channel 233C1 to Enderlin, North Dakota, and modifies the reference coordinates for the Channel 236C1 allotment at Barnesville, Minnesota. See 66 FR 829, published January 8, 2002. The reference coordinates for the Channel 236C1 allotment at Barnesville, Minnesota, are now 46-40-27 and 96-13-39. The reference coordinates for the Channel 233C1 allotment at Enderlin, North Dakota, are 46-25-00 and 97-15-00. With this action, the proceeding is terminated.

DATES: Effective January 30, 2003.

FOR FURTHER INFORMATION CONTACT: Robert Hayne, Mass Media Bureau, (202) 418-2177.

SUPPLEMENTARY INFORMATION: This is a synopsis of the Commission's Memorandum Opinion and Order in MM Docket No. 00-53, adopted December 13, 2002, and released December 16, 2002. The full text of this decision is available for inspection and copying during normal business hours in the FCC's Reference Information Center at Portals II, CY-A257, 445 12th Street, SW., Washington, DC. The complete text of this decision may also be purchased from the Commission's copy contractor, Qualex International, Portals II, 445 12th Street, SW., Room CY-B402, Washington, DC 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under North Dakota, is amended by adding Enderlin, Channel 233C1.

Federal Communications Commission.
John A. Karousos,
Assistant Chief, Audio Division, Media Bureau.

[FR Doc. 03-536 Filed 1-10-03; 8:45 am]

BILLING CODE 6712-01-P